DEPARTMENT OF DEFENSE

Department of the Navy

[USN-2008-0022]

Privacy Act of 1974; System of Records

AGENCY: Department of the Navy, DoD.

ACTION: Notice to Amend a System of Records.

SUMMARY: The Department of the Navy is amending a system of records notice in its existing inventory of record systems subject to the Privacy Act of 1974, (5 U.S.C. 552a), as amended.

DATES: This proposed action will be effective without further notice on May 2, 2008 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: March 27, 2008.
L.M. Bynum,
Alternate OSD Federal Register Liaison Officer, Department of Defense.

NM05211-1

System name:

Privacy Act Request Files and Tracking System (November 16, 2004, 69 FR 67128).

Changes:

System name:

After “Request” add “Amendment”.

System location:

In para 1, delete “http://neds.daps.dla.mil/sndl.htm” and replace with “http://doni.daps.dla.mil/sndl.aspx”.

System manager(s) and address:

Under “Policy Official” delete “(N09B10)” and replace with “(DNS-36)”.

Under “Record Holders” replace “http://neds.daps.dla.mil/sndl.htm” with “http://doni.daps.dla.mil/sndl.aspx”.

Notification procedure:

In para 1, replace “http://neds.daps.dla.mil/sndl.htm” with “http://doni.daps.dla.mil/sndl.aspx”.

Record access procedures:

In para 1, replace “http://neds.daps.dla.mil/sndl.htm” with “http://doni.daps.dla.mil/sndl.aspx”.

NM05211-1

System name:

Privacy Act Request/Amendment Files and Tracking System.

System location:

Organizational elements of the Department of the Navy. Official mailing addresses are published in the Standard Navy Distribution List (SNDL) that is available at http://doni.daps.dla.mil/sndl.aspx.

Commander, U.S. Joint Forces Command, 1562 Mitscher Avenue, Suite 200, Norfolk, VA 23551-2488.

Commander, U.S. Pacific Command, P.O. Box 64028, Camp H.M. Smith, HI 96861-4028.

Categories of individuals covered by the system:

Individuals who request information concerning themselves which is in the custody of the Department of the Navy or who request access to or amendment of such records in accordance with the Privacy Act of 1974, as amended.

Categories of records in the system:

Letters, memoranda, legal opinions, messages, and miscellaneous documents relating to an individual's request for access to or amendment of records concerning that person, including letters authorizing release to another individual, letters of denial, appeals, statements of disagreements, and related documents accumulated in processing requests received under the Privacy Act of 1974. Names, addresses, and other personal identifiers of the individual requester. Database which tracks actions from start to finish.

Authority for maintenance of the system:

5 U.S.C. 552a, The Privacy Act of 1974, as amended; 10 U.S.C. 5013, Secretary of the Navy; 10 U.S.C. 5041, Headquarters, Marine Corps; Secretary of the Navy Instruction 5211.5D, Department of the Navy Privacy Act Program and E.O. 9397 (SSN).

Purpose(s):

To track, process, and coordinate individual requests for access and amendment of personal records; to process appeals on denials of requests for access or amendment to personal records; to compile information for reports, and to ensure timely response to requesters.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses' set forth at the beginning of the Navy's compilation of systems of records notices also apply to this system.

Policies and practices for storing, retrieving, accessing, retaining, and disposing of records in the system:

Storage:

Maintained in file folders, microform, microfilm, manual/computerized databases, and/or optical disk.

Retrievability:

Name of requester; year request filed; serial number of response letter; or case file number, etc.

Safeguards:

Records are accessed by custodian of the record system and by persons responsible for servicing the record system in performance of their official duties. Records are stored in locked cabinets or rooms. Computerized databases are password protected and accessed by individuals who have a need to know.

Retention and disposal:

Granted requests, responses to requests for non-existent records, responses to requesters who provide inadequate descriptions and responses to requesters who fail to pay agency reproduction fees that are not appealed are destroyed 2 years after date of reply; requests which are denied and are appealed are destroyed after 5 years; requests which are amended are retained for 4 years; requests for amendment which are refused are destroyed after 3 years; disclosure accounting forms are retained for the life of the record of 5 years after the disclosure, whichever is later; and privacy act databases are destroyed after 5 years.

System manager(s) and address:

Policy Official: Chief of Naval Operations (DNS-36), 2000 Navy Pentagon, Washington, DC 20350-2000.

Record Holders: Organizational elements of the Department of the Navy. Official mailing addresses are published in the Standard Navy Distribution List (SNDL) that is available at http://doni.daps.dla.mil/sndl.aspx.

Commander, U.S. Joint Forces Command, 1562 Mitscher Avenue, Suite 200, Norfolk, VA 23551-2488; and

Commander, U.S. Pacific Command, P.O. Box 64028, Camp H.M. Smith, HI 96861-4028. Official mailing addresses are published as an appendix to the Navy's compilation of systems of records notices.

Notification procedure:

Individuals seeking to determine whether information about themselves is contained in this system should address written inquiries to the commanding officer of the activity in question. Official mailing addresses are published in the Standard Navy Distribution List (SNDL) that is available at http://doni.daps.dla.mil/sndl.aspx.

The request must be signed and contain the full name of the individual and one or more of the following kinds of information: year request filed; serial number of response letter; case file number.

Record access procedures:

Individuals seeking access to information about themselves contained in this system should address written inquiries to the commanding officer of the activity in question. Official mailing addresses are published in the Standard Navy Distribution List (SNDL) that is available at http://doni.daps.dla.mil/sndl.aspx”.

The request must be signed and contain the full name of the individual and one or more of the following kinds of information: year request filed; serial number of response letter; case file number.

Contesting record procedures:

The Department of the Navy's rules for accessing records, and for contesting contents and appealing initial agency determinations are published in Secretary of the Navy Instruction 5211.5; 32 CFR part 701; or may be obtained from the system manager.

Record source categories:

From the individual, Navy organizations, Department of Defense components, and other Federal, state, and local government agencies.

Exemptions claimed for the system:

Department of the Navy exemption rules have been promulgated in accordance with requirements of 5 U.S.C. 553(b)(1), (2), and (3), (c) and (e) published in 32 CFR part 701, Subpart G. For additional information contact the system manager.

Note: During the course of a Privacy Act (PA) action, exempt materials from other systems of records may become part of the case records in this system of records. To the extent that copies of exempt records from those `other' systems of records are entered into these PA case records, the Department of the Navy hereby claims the same exemptions for the records as they have in the original primary systems of records of which they are a part.

[FR Doc. E8-6829 Filed 4-1-08; 8:45 am]

BILLING CODE 5001-06-P